DEPARTMENT OF COMMERCE

National Oceanic and Atmospheric Administration

RIN 0648-XQ28

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Oversight Committee on July 30, 2009 to consider actions affecting New England fisheries in the exclusive economic zone (EEZ). Recommendations from this group will be brought to the full Council for formal consideration and action, if appropriate.

DATES: This meeting will be held on Thursday, July 30, 2009 at 9 a.m.

ADDRESSES: Meeting address: The meeting will be held at the Sheraton Harborside Hotel, 250 Market Street, Portsmouth, NH 03801; telephone: (603) 431-2300; fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of the meeting is to continue finalizing the details of alternatives for consideration in the Draft Environmental Impact Statement (DEIS) for Amendment 5 to the Monkfish Fishery Management Plan. The Monkfish Committee will discuss any issues and questions presented by the Plan Development Team and/or staff pertaining to the range of alternatives approved by the Council for consideration in Amendment 5. The Council approved considering several modifications to the existing management program, including changes to the days-at-sea (DAS) program and monkfish incidental catch limits, as well as approved for consideration several alternatives addressing the rules applicable to monkfish vessels that are also enrolled in groundfish sectors. Also under consideration in Amendment 5 are monkfish sectors and Individually Transferrable Quotas (ITQs) with several options for specific elements of those programs such as qualification criteria. Any of these items may be discussed as needed by the Committee.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: July 10, 2009
Tracey L. Thompson,
Acting Director, Office of Sustainable Fisheries, National Marine Fisheries Service.

[FR Doc. E9-16737 Filed 7-14-09; 8:45 am]

BILLING CODE 3510-22-S